DEPARTMENT OF COMMERCE

National Oceanic and Atmospheric Administration

RIN 0648-XA651

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scallop Advisory Panel on September 12, 2011 to consider actions affecting New England fisheries in the exclusive economic zone (EEZ). Recommendations from this group will be brought to the full Council for formal consideration and action, if appropriate.

DATES: This meeting will be held on Monday, September 12, 2011 at 9 a.m.

ADDRESSES: The meeting will be held at the Courtyard by Marriott, 225 McClellan Highway, East Boston, MA 02128; telephone: (617) 569-5250; fax: (617) 569-5159.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Advisory Panel will make recommendations for the Scallop Committee to consider related to Framework 23 to the Scallop Fishery Management Plan (FMP). Framework 23 is considering alternatives related to four specific issues: (1) Potentially require a turtle deflector dredge for scallop dredge vessels; (2) revise the yellowtail flounder accountability measures (AMs) proposed in Amendment 15; (3) possibly modify how catch in state waters is accounted for in both the limited access general category management program for the Northern Gulf of Maine (NGOM) area and the limited access general category IFQ fishery; and (4) modify when a scallop vessel declares into the scallop fishery to improve fleet operations. The Panel will also discuss recommendations related to potential 2012 Council work priorities for the Scallop FMP. Other business may also be discussed at this meeting. For example, recent data suggest that windowpane flounder bycatch in the scallop fishery increased dramatically in 2010. The Scallop advisors may discuss possible reasons why and brainstorm recommendations for potential accountability measures if the Council decides to allocate a sub-ACL of windowpane flounder to the scallop fishery in a future action under the Groundfish FMP.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: August 18, 2011.
Tracey L. Thompson,
Acting Director, Office of Sustainable Fisheries, National Marine Fisheries Service.

[FR Doc. 2011-21540 Filed 8-22-11; 8:45 am]

BILLING CODE 3510-22-P